DEPARTMENT OF THE TREASURY

Submission for OMB Review; Comment Request

May 24, 2016.

The Department of the Treasury will submit the following information collection request to the Office of Management and Budget (OMB) for review and clearance in accordance with the Paperwork Reduction Act of 1995, Public Law 104-13, on or after the date of publication of this notice.

DATES: Comments should be received on or before June 27, 2016 to be assured of consideration.

ADDRESSES: Send comments regarding the burden estimates, or any other aspect of the information collection, including suggestions for reducing the burden, to (1) Office of Information and Regulatory Affairs, Office of Management and Budget, Attention: Desk Officer for Treasury, New Executive Office Building, Room 10235, Washington, DC 20503, or email at OIRA_Submission@OMB.EOP.gov and (2) Treasury PRA Clearance Officer, 1750 Pennsylvania Ave. NW., Suite 8117, Washington, DC 20220, or email at PRA@treasury.gov.

FOR FURTHER INFORMATION CONTACT: Copies of the submission may be obtained by emailing PRA@treasury.gov, calling (202) 622-1295, or viewing the entire information collection request at www.reginfo.gov.

Financial Crimes Enforcement Network (FinCEN)

OMB Control Number: 1506-0049.

Type of Review: Extension of a previously approved collection.

Title: Expansion of Special Information Sharing Procedures to Deter Money Laundering and Terrorist Activity.

Abstract: The relevant Bank Secrecy Act (“BSA”) information sharing rules that allow certain foreign law enforcement agencies, and State and local law enforcement agencies, to submit requests for information to financial institutions. The rule also clarifies that FinCEN itself, on its own behalf and on behalf of other appropriate components of the Department of the Treasury, may submit such requests. Modification of the information sharing rules is a part of the Department of the Treasury's continuing effort to increase the efficiency and effectiveness of its anti-money laundering and counter-terrorist financing policies.

Affected Public: Businesses or other for-profits; State, local, or tribal governments.

Estimated Total Annual Burden Hours: 1,087,236.

Brenda Simms,
Treasury PRA Clearance Officer.

[FR Doc. 2016-12625 Filed 5-26-16; 8:45 am]

BILLING CODE 4810-02-P